DEPARTMENT OF LABOR

Employment and Training Administration

[TA-W-41,976]

Black and Decker, North American Power Tools, Including Leased Workers of Employment Control, Inc., Easton, Maryland; Amended Certification Regarding Eligibility To Apply for Worker Adjustment Assistance

In accordance with section 223 of the Trade Act of 1974 (19 U.S.C. 2273) the Department of Labor issued a Certification of Eligibility to Apply for Worker Adjustment Assistance on October 10, 2002, applicable to workers of Black and Decker, North American Power Tools, Easton, Maryland. The notice was published in the Federal Register on November 5, 2002 (67 FR 67422).

At the request of the State agency, the Department reviewed the certification for workers of the subject firm. Information provided by the State shows that leased workers of Employment Control, Inc. were employed at Black and Decker, North American Power Tools to produce corded power tools as well as provide administrative support service for the production of corded power tools at the Easton, Maryland location of the subject firm.

Based on these findings, the Department is amending the certification to include leased workers of Employment Control, Inc. employed at Black and Decker, North American Power Tools, Easton, Maryland.

The intent of the Department's certification is to include all workers of Black and Decker, North American Power Tools who were adversely affected by increased imports and a shift in production to Mexico.

The amended notice applicable to TA-W-41,976 is hereby issued as follows:

All workers of Black and Decker, North American Power Tools, Easton, Maryland, engaged in production of corded power tools, including leased workers of Employment Control, Inc. engaged in employment related to the production of corded power tools at Black and Decker, North American Power Tools, Easton, Maryland who became totally or partially separated from employment on or after August 1, 2001, through October 10, 2004, are eligible to apply for adjustment assistance under Section 223 of the Trade Act of 1974.

Signed at Washington, DC, this 8th day of January, 2003.
Elliott S. Kushner,
Certifying Officer, Division of Trade Adjustment Assistance.

[FR Doc. 03-807 Filed 1-14-03; 8:45 am]

BILLING CODE 4510-30-P